Proclamation 8874 of October 1, 2012

National Breast Cancer Awareness Month, 2012

By the President of the United States of America

A Proclamation

Breast cancer touches the lives of Americans from every background and in every community across our Nation. Though we have made great strides in combatting this devastating illness, more than 200,000 women will be diagnosed with breast cancer this year, and tens of thousands are expected to lose their lives to the disease. During National Breast Cancer Awareness Month, we honor those we have lost, lend our strength to those who carry on the fight, and pledge to educate ourselves and our loved ones about this tragic disease.

Though the exact causes of breast cancer are unknown, understanding its risk factors is essential to prevention. Older women and those who have a personal or family history of breast cancer are among those at greater risk of developing the illness. Early detection is also key in the fight against breast cancer. Getting recommended screening mammograms can help to detect breast cancer early. I encourage women and men to speak with their health care provider about breast cancer, and to visit www.Cancer.gov to learn more about symptoms, diagnosis, and treatment.

My Administration remains committed to ensuring access to quality health care that includes preventive services for women. Thanks to the Affordable Care Act, many health plans are required to cover mammograms and other recommended cancer screenings without co-pays or deductibles. Starting in 2014, it will also ensure that no American can be denied health insurance because of a pre-existing condition—including breast cancer.

This month, we stand with the mothers, daughters, sisters, aunts, and friends who have been affected by breast cancer, and we recognize the ongoing efforts of dedicated advocates, researchers, and health care providers who strive each day to defeat this terrible disease. In memory of the loved ones we have lost and inspired by the resilience of those living with the disease, let us strengthen our resolve to lead our Nation toward a future free from cancer in all its forms.

NOW, THEREFORE, I, BARACK OBAMA, President of the United States of America, by virtue of the authority vested in me by the Constitution and the laws of the United States, do hereby proclaim October 2012 as National Breast Cancer Awareness Month. I encourage citizens, government agencies, private businesses, nonprofit organizations, and all other interested groups to join in activities that will increase awareness of what Americans can do to prevent breast cancer.

IN WITNESS WHEREOF, I have hereunto set my hand this first day of October, in the year of our Lord two thousand twelve, and of the Independence of the United States of America the two hundred and thirty-seventh.

[FR Doc. 2012-24658

Filed 10-3-12; 8:45 am]

Billing code 3295-F3